ENVIRONMENTAL PROTECTION AGENCY

40 CFR Part 52

[EPA-R07-OAR-2021-0360; FRL-8707-01-R7]

Air Plan Approval; Approval of Missouri Air Quality Implementation Plans; Revisions to St. Louis 2008 8-Hour Ozone Maintenance Plan

AGENCY: Environmental Protection Agency (EPA).

ACTION: Proposed rule.

SUMMARY: The Environmental Protection Agency (EPA) is proposing to approve a State Implementation Plan (SIP) revision submitted by the State of Missouri on November 12, 2019, revising the 2008 8-hour ozone maintenance plan previously approved by EPA on September 20, 2018, demonstrating continued maintenance of the 2008 ozone National Ambient Air Quality Standard (NAAQS), the 1979 1-Hour and 1997 8-Hour ozone standards in the St. Louis area. This revision states that the St. Louis area no longer needs to rely on the Inspection and Maintenance (I/M) program, and Reformulated Gasoline (RFG) for continued maintenance throughout the maintenance period for the 2008 8-Hour ozone NAAQS, the 1979 1-Hour ozone NAAQS and 1997 8-Hour ozone NAAQS. EPA is proposing to determine that this revision meets the requirements of the Clean Air Act.

DATES: Comments must be received on or before August 30, 2021.

ADDRESSES: You may send comments, identified by Docket ID No. EPA-R07-OAR-2021-0360 to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Steven Brown, Environmental Protection Agency, Region 7 Office, Air Quality Planning Branch, 11201 Renner Boulevard, Lenexa, Kansas 66219; telephone number: (913) 551-7718; email address: brown.steven@epa.gov.

SUPPLEMENTARY INFORMATION: Throughout this document “we,” “us,” and “our” refer to the EPA.

Table of Contents

I. Written Comments

II. What is being addressed in this document?

III. Have the requirements for approval of a SIP revision been met?

IV. What action is the EPA taking?

V. Statutory and Executive Order Reviews

I. Written Comments

Submit your comments, identified by Docket ID No. EPA-R07-OAR-2021-0360, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. What is being addressed in this document?

The EPA is proposing to approve SIP revisions submitted by the State of Missouri on November 12, 2019, revising the 2008 8-hour ozone maintenance plan previously approved on September 20, 2018 (83 FR 47572). This SIP revision demonstrates continued maintenance of the 2008 8-Hour ozone NAAQS, the 1979 1-Hour ozone NAAQS and 1997 8-Hour ozone NAAQS in the St. Louis area through the future year of 2030. Since the 2008 ozone standard is more stringent than the 1979 and 1997 ozone standards, and the boundary area for all three designations are identical, Missouri is requesting through this SIP revision to also replace the previously approved maintenance plans under those older standards. The maintenance boundary for these three standards includes the Missouri counties of Franklin, Jefferson, St. Charles, and St. Louis along with the City of St. Louis.

On May 12, 2003 EPA published a final rule stating the St. Louis area attained the 1979 1-hour ozone standard, redesignated the area to attainment, and approved the state's plan for maintaining the 1-hour ozone NAAQS (68 FR 25413). On June 15, 2005 the 1-Hour Ozone NAAQS was revoked for all areas except the 8-Hour Ozone nonattainment Early Action Compact (EAC) areas. (70 FR 44470). Due to the revocation of the 1-Hour Ozone standard 1-Hour Ozone designations and classifications were removed for all areas except EAC areas that had deferred effective dates for their designations under the 8-Hour Ozone 1997 standard. The St. Louis area did not participate in the EAC and therefore, the 1-hour ozone standard was revoked effective June 15, 2005 for all areas in Missouri (70 FR 44470).

On February 20, 2015, EPA issued a final rulemaking approving the State of Missouri's request to redesignate the Missouri portion of the St. Louis nonattainment area to attainment and their demonstration for maintaining the 1997 8-hour ozone NAAQS through the ten-year maintenance period (2025). (80 FR 9207).

This SIP revision we are acting on in this proposal, removes the reliance on the St. Louis Inspection and Maintenance (I/M) program, and Reformulated Gasoline (RFG) for continued maintenance of the 2008, 1979 and 1997 standard. To support this revision, Missouri utilized EPA's 2014 Motor Vehicle Emissions Simulator (MOVES2014b) emission modeling system to project revised mobile source emissions by removing emissions reductions related to I/M and RFG throughout the maintenance period to the future year of 2030.

Tables 1 and 2 below compare ozone season day (OSD) precursor pollutants of nitrogen oxide (NOX) and volatile organic compound (VOC) emissions for the attainment year 2014 to the projection year 2030 for point, area, onroad and nonroad source categories of the five counties in the St. Louis area. Missouri's emissions analysis show decreases in mobile source emissions and a decrease in total source category NOX and VOC emissions through the maintenance period of 2030. The projections show that NOX emissions will decrease by a total of 135.68 tons per OSD (43.1%), while VOC emissions will be reduced by 41.36 tons per OSD (20.5%) between 2014 and 2030. These decreases in precursor pollutants demonstrate the area will continue to meet the 2008, 1979 and 1997 ozone standard throughout the maintenance period without relying on the I/M program or RFG requirements in the Missouri portion of the maintenance area.

Table 1—2014 Total Emissions
Source Category | NOX | VOC
St. Louis Area NOX & VOC Emissions in Tons Per Ozone Season Day (OSD):
Point Source | 81.70 | 13.86
Area Source | 6.47 | 69.81
Onroad Source | 111.76 | 38.21
Nonroad Source | 38.44 | 33.42
Total Emissions Tons/OSD | 238.37 | 155.30
Illinois Area:
Point Source | 23.29 | 9.38
Area Source | 1.53 | 19.06
Onroad Source | 26.94 | 10.11
Nonroad Source | 24.62 | 7.47
Total Emissions Tons/OSD | 76.38 | 46.02
Grand Total Emmissions | 314.75 | 201.32

Table 2—2030 Total Emissions
Source Category | NOX | VOC
St. Louis Area NOX & VOC Emissions in Tons Per Ozone Season Day (OSD):
Point Source | 93.08 | 14.31
Area Source | 6.58 | 68.60
Onroad Source | 26.01 | 16.12
Nonroad Source | 16.79 | 22.45
Total Emissions Tons/OSD | 142.61 | 121.48
Illinois Area:
Point Source | 16.93 | 8.53
Area Source | 1.51 ENT>18.05
Onroad Source | 6.71 | 3.76
Nonroad Source | 11.31 | 5.09
Total Emissions Tons/OSD | 36.46 | 35.43
Grand Total Emissions | 179.07 | 156.91

It is important to note approval of this maintenance plan revision does not remove the I/M program or the RFG program requirements from the SIP.

In addition, the motor vehicle emissions budgets (MVEBs) from the previously SIP approved Maintenance Plan for the 2008 ozone NAAQS ¹ and this SIP submittal remain the same. Therefore, there are no new MVEBs being created for this SIP revision. EPA found the previously approved MVEBs adequate for use with transportation conformity on June 22, 2018 (83 FR 26598). Therefore, the State of Missouri is required to use the MVEBs from the February 16, 2018, Redesignation Request and Maintenance Plan for future transportation conformity determinations for the St. Louis area until new budgets are created and formally found adequate or approved. The finding is available at EPA's conformity website: https://www.epa.gov/state-and-local-transportation.

¹ 83 FR 47572, Sept. 20, 2018.

EPA is proposing approval of the revised maintenance plan based on information provided in the emissions projections, modeling results and an evaluation of quality assured air monitoring data submitted as part of this revision and in a previously reviewed analysis as part of the St. Louis Nonattainment Area 2008 8-hour Ozone NAAQS Redesignation rulemaking on September 20, 2018 (83 FR 47572). Current and future projections of air quality and emissions data for this revision demonstrates maintenance for the 2008, 1979 and 1997 ozone NAAQS.

This revision only affects maintenance for the 2008, 1979 and 1997 ozone standards, only removes the reliance upon the I/M program and RFG programs and meets the requirements of the Clean Air Act.

The full text of the plan revisions including Missouri's technical demonstration can be found in the State's submission, which is included in the docket for this action.

III. Have the requirements for approval of a SIP revision been met?

The State submission has met the public notice requirements for SIP submissions in accordance with 40 CFR 51.102. The submission also satisfied the completeness criteria of 40 CFR part 51, appendix V. The State provided public notice on this SIP revision from July 29, 2019 to September 5, 2019 and received one comment from the Missouri Petroleum Marketers and Convenience Store Association, one comment from Abel Realty, and twelve comments from EPA. After receiving comments, the state revised the submittal language prior to submitting the plan to EPA. In addition, as explained above and in more detail in the Missouri submittal document, which is part of the docket, the revision meets the substantive SIP requirements of the CAA, including section 110 and implementing regulations.

IV. What action is the EPA taking?

We are proposing to approve a SIP revision submitted by the State of Missouri on November 12, 2019, revising the 2008 8-hour ozone maintenance plan. EPA is proposing to determine that this revision would not interfere with attainment or maintenance of the NAAQS or with any other CAA requirement. We are processing this as a proposed action because we are soliciting comments on this proposed action. Final rulemaking will occur after consideration of any comments.

V. Statutory and Executive Order Reviews

Under the Clean Air Act (CAA), the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this proposed rulemaking does not involve technical standards; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Ozone.

Dated: July 19, 2021.
Edward H. Chu,
Acting Regional Administrator, Region 7.

For the reasons stated in the preamble, the EPA proposes to amend 40 CFR part 52 as set forth below:

PART 52—APPROVAL AND PROMULGATION OF IMPLEMENTATION PLANS

1. The authority citation for part 52 continues to read as follows:

Authority: 42 U.S.C. 7401 et seq.

Subpart AA—Missouri

2. In § 52.1320, the table in paragraph (e) is amended by adding the entry “(79)” in numerical order to read as follows:

§ 52.1320 Identification of plan.

* * * * *

(e) * * *

EPA-Appoved Missouri Nonregulatory SIP Provisions
Name of nonregulatory SIP provision | Applicable geographic or nonattainment area | State submittal date | EPA approval date | Explanation
* * * * * * *
(79) Revisions to St. Louis 2008 8-Hour Ozone Maintenance Plan | St. Louis Area: Missouri counties of Franklin, Jefferson, St. Charles, and St. Louis along with the City of St. Louis | 11/12/2019 | [Date of publication of the final rule in the Federal Register], [Federal Register citation of the final rule] | This action replaces Maintenance plans for the following ozone NAAQS: 1979 1-hour (68 FR 25413),1997 8-hour (80 FR 9207), 2008 8-hour (83 FR 47572).
* * * * * * *

[FR Doc. 2021-15731 Filed 7-29-21; 8:45 am]

BILLING CODE 6560-50-P